DEPARTMENT OF HEALTH AND HUMAN SERVICES

Centers for Disease Control and Prevention

[60-Day-03-74]

Proposed Data Collections Submitted for Public Comment and Recommendations; Correction

A notice announcing the proposed data collection under the Paperwork Reduction Act was published in the Federal Register on June 12, 2003, (68 FR 35228). This notice is corrected as follows:

On page 35228, in the third column, second sentence under Proposed Project, this sentence is replaced with: The proposed survey is designed to collect data to address objectives in Chapter 23, Public Health Infrastructure.

On page 35228, bottom of the page, the table is replaced by the following table:

Respondents | Number of respondents | Number of responses/respondent | Average burden/response (in hours) | Total burden (in hours)
State/territorial Health Agencies | 50 | 1 | 20/60 | 17
Local Health Agencies | 1300 | 1 | 20/60 | 434
Tribal Agencies | 250 | 1 | 20/60 | 84
Total |  |  |  | 535

All other information and requirements of the June 12, 2003 notice remain the same.

Dated: June 13, 2003.
Thomas A. Bartenfeld,
Acting Associate Director for Policy, Planning and Evaluation, Centers for Disease Control and Prevention.

[FR Doc. 03-15455 Filed 6-18-03; 8:45 am]

BILLING CODE 4163-18-P